DEPARTMENT OF TRANSPORTATION

Federal Motor Carrier Safety Administration

[Docket No. FMCSA-2016-0032]

Qualification of Drivers; Exemption Applications; Vision

AGENCY: Federal Motor Carrier Safety Administration (FMCSA), DOT.

ACTION: Notice of denials.

SUMMARY: FMCSA announces its denial of 160 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to or greater than the level that would be achieved absent such an exemption.” The procedures for requesting an exemption are set forth in 49 CFR part 381.

Accordingly, FMCSA evaluated 160 individual exemption requests on their merit and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following 2 applicants did not have sufficient driving experience over the past 3 years under normal highway operating conditions:

Gregory M. Anderson

David Holguin

The following 52 applicants had no experience operating a CMV:

Dakota G. Abbott

Mohamed A. Barre

William J. Baughman

Drew R. Benton

Michael W. Brown

Ronald G. Burr

Luis A. Cortez

Michael A. DiBiase

Ronnie D. Dingal

Anthony D. Everett

Paul D. Ewey

Abraham Filmalter

Danny S. Flemister

Selese A. Fort

Buddy L. Gibson

Trevor Hall

Richard M. Haugen

Jason S. Hooker

William D. Hulsey II

Daniel M. Jackson

Samuel L. Kirkpatrick

Brian J. LaBarge

Justin T. Lewis

Samantha J. Linberg

Cedrick A. Martin

Aqif Matraku

Aaron A. McBride

Zachary J. Menchaca

Richard W. Merritt

Michael J. Miller

David R. Mitchell

Huon Morris

Lanee T. Morton

Rose M. Neely

Douglas Patton

Tina M. Petkovsek

Brian J. Poe

Derek D. Pratt

Michael S. Pressley

Lawrence K. Proctor

Alexander Pulido

Josue M. Rodriguez-Espinoza

Michael C. Shelp

Jerek Smith

Rashania M. Smith

James E. Soderquist

Kody L. Sullivan

Seifu A. Tilahun

Jovan C. Vega

Patricia A. Williams

Kimberly S. Wilson

Owen W. Witmer

The following 27 applicants did not have 3 years of experience driving a CMV on public highways with their vision deficiencies:

Guy L. Banks

Gary W. Brockway

Carlos D. M. Catillo

Tsz Fung Chiu

Eugene J. Corson

Terry D. Eberly

Juan J. Giron

Timothy F. Giza

Crescencio Gonzalez

Tasuli Gramosli

James W. Gray

Gregory L. Grover

Bobby M. James

Robert F. LaMark

Kevin A. Milam

Bryan S. Moses

Manuel Narvaez, Jr.

Kenneth Newswanger

Aaron B. Reke

Kenneth W. Seifert

Charles S. Shaffblower, Jr.

Michael Sierra

Roderick R. Sonnier

Ramon E. Tijerino

Alan L. Viessman

James D. Watters

Kenneth E. Wheland

The following 14 applicants did not have 3 years of recent experience driving a CMV with the vision deficiency:

Paul C. Alves

Christopher L. Ambers

John W. Black III

Benny W. Bledsoe

Michael C. Boyne

Philip L. Bradford

Jesus Cerros Palos

Richard B. Davis

Zack Fowler

James E. Frederick III

Daniel G. Y. Haile

Dustin M. Mills

Juan A. Ortiz

Gary W. Stevenson

The following 13 applicants did not have sufficient driving experience during the past 3 years under normal highway operating conditions:

Caleb E. Boulware

Timothy D. Ferrell

Travis A. Francis

Nicholas D. Hansen

Gabriel L. Harrison

Jeffrey A. Jensrud

Ruslan Kochiyev

Edwin Martinez

William Perez

Daniel C. Sagert

Roger T. Simmons

Joseph L. Smith

Michael K. Soost

The following 2 applicants were charged with moving violations in conjunction with a CMV accident:

Theodore N. Belcher

Perry T. Kolberg

The following applicant, Bruce A. Rost, has other medical conditions that make him or her otherwise unqualified.

The following applicant, Jeremy M. Row, did not have an optometrist or ophthalmologist willing to make a statement that they are able to operate a commercial vehicle from a vision standpoint.

The following 9 applicants were denied for multiple reasons:

Kyle D. Baer

Montie H. Cudd

Walter Gomez

Michael J. Howe

Kelly D. Kitchmaster

Stephen J. Pariseau

Henry Riser

Aaron G. Stoltzfoos

Willie Taylor III

The following applicant, Rufus L. Jones, submitted false documentation during the application process.

The following applicant, Stuart J. Daniell, did not have stable vision for the entire 3-year period.

The following applicant, Robert J. Duncan, is a Canadian citizen.

The following 7 applicants met the current federal vision standards. Exemptions are not required for applicants who meet the current regulations for vision:

Dustin C. Barber

Dennis L. Bramlett

Madeline C. Duran

Valerian K. Legah

Larry M. Owen

James M. Trezza

Roger K. Wells

The following 2 applicants were charged with moving violations in conjunction with a CMV accident:

William E. Brown

William Serrano

The following 19 applicants will not be driving interstate, interstate commerce, or are not required to carry a DOT medical card:

Samuel B. Batten

Enrico Farro

Mike Fender

Douglas J. Frey

Joseph G. Gilmore

Dennis P. Keenan

Kenneth A. Lamb

Harlan R. Larson

Steven P. Orrell

Guadlupe Reyes

Robert L. Rice

Steven Rigitano

Ryan E. Rutter

Mario R. Scirica

Lloyd E. Shryock

Antonio Soto

John P. Steffens

John R. Wolfe

Roger D. Woodcock

Finally, the following 8 applicants perform transportation for the federal government, state, or any political sub-division of the state.

David M. Field

Jason M. Isaman

Anthony Woodruff

Dexter ONeil

Samuel B. Martinez

Kenneth P. Smith

Daniel L. Homan, Dennis M. Varga

Issued on: July 25, 2016.
Larry W. Minor,
Associate Administrator for Policy.

[FR Doc. 2016-18138 Filed 7-29-16; 8:45 am]

BILLING CODE 4910-EX-P